ENVIRONMENTAL PROTECTION AGENCY

40 CFR Part 50

[EPA-HQ-OAR-2005-0172; FRL-8338-5]

RIN 2060-AN24

Public Hearings for National Ambient Air Quality Standards for Ozone

AGENCY: Environmental Protection Agency (EPA).

ACTION: Announcement of public hearings.

SUMMARY: The EPA is announcing five public hearings to be held for the proposed rule—“National Ambient Air Quality Standards for Ozone” which is published elsewhere in this Federal Register. The hearings will be held concurrently in Philadelphia, Pennsylvania and Los Angeles, California on Thursday, August 30, 2007 and concurrently in Atlanta, Georgia; Chicago, Illinois; and Houston, Texas on Wednesday, September 5, 2007.

In the proposed rule, EPA proposes to make revisions to the primary and secondary national ambient air quality standards (NAAQS) for ozone to provide requisite protection of public health and welfare, respectively.

DATES: The public hearings will be held on August 30, 2007 and September 5, 2007. Please refer to SUPPLEMENTARY INFORMATION for additional information on the public hearings.

ADDRESSES: The hearings will be held at the following locations/dates:

1. Philadelphia: Thursday, August 30, 2007.

Crystal Ballroom, Radisson Plaza—Warwick Hotel Philadelphia, 1701 Locust Street, Philadelphia, PA 19103, Telephone: (215) 735-6000.

2. Los Angeles: Thursday, August 30, 2007.

Garden West Room, Wilshire Grand Los Angeles, 930 Wilshire Boulevard, Los Angeles, CA 90017, Telephone: (213) 688-7777.

3. Atlanta: Wednesday, September 5, 2007.

AFC Conference Center, 2nd Floor—Conference Room B, Atlanta Federal Center, 61 Forsyth Street, SW., Atlanta, GA 30303, Telephone: (404) 562-9077.

Note: All persons entering the Atlanta Federal Center must have a valid picture ID such as a Driver's License and go through Federal security procedures. All persons must go through a magnetometer and all personal items must go through x-ray equipment, similar to airport security procedures. After passing through the equipment, all persons must sign in at the guard station and show their picture ID.

4. Chicago: Wednesday, September 5, 2007.

Governor's Suite, The Westin Michigan Avenue Chicago, 909 North Michigan Avenue, Chicago, Illinois 60611, Telephone: (312) 943-7200.

5. Houston: Wednesday, September 5, 2007.

Emerald Rooms 4 & 5, Houston Marriot West Loop by the Galleria, 1750 West Loop South, Houston, Texas 77027, Telephone: (713) 960-0111.

Written comments on this proposed rule may also be submitted to EPA electronically, by mail, by facsimile, or through hand delivery/courier. Please refer to the notice of proposed rulemaking elsewhere in this Federal Register for the addresses and detailed instructions for submitting written comments.

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the rulemaking, which includes the proposal and information about the public hearings, can be found at: http://www.epa.gov/air/ozonepollution/actions.html.

FOR FURTHER INFORMATION CONTACT: If you would like to speak at the public hearings or have questions concerning the public hearings, please contact Ms. Tricia Crabtree at the address given below under SUPPLEMENTARY INFORMATION.

Questions concerning the “National Ambient Air Quality Standards for Ozone” proposed rule should be addressed to Dr. David McKee, U.S. EPA, Office of Air Quality Planning and Standards, Health and Environmental Impacts Division, (C504-06), Research Triangle Park, NC 27711, telephone: (919) 541-5288, e-mail: mckee.dave@epa.gov.

SUPPLEMENTARY INFORMATION: The proposal for which EPA is holding the public hearings is published elsewhere in this Federal Register and is available on the following Web site: http://www.epa.gov/air/ozonepollution/actions.html.

The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, as specified in the proposal.

The five public hearings will be held concurrently in Philadelphia, Pennsylvania and Los Angeles, California on August 30, 2007; and concurrently in Atlanta, Georgia; Chicago, Illinois; and Houston, Texas on September 5, 2007. The public hearings will begin each day at 9 a.m. and continue into the evening until 9 p.m. (local time) or later, if necessary, depending on the number of speakers wishing to participate. The EPA will make every effort to accommodate all speakers that arrive and register before 9 p.m. The EPA is scheduling lunch breaks from 12:30 p.m. until 2 p.m. and dinner breaks from 6 p.m. to 7:30 p.m. If you would like to present oral testimony at the hearings, please notify Ms. Tricia Crabtree, (C504-02) U.S. Environmental Protection Agency, Research Triangle Park, NC 27711, e-mail (preferred method for registering): crabtree.tricia@epa.gov; telephone: (919) 541-5688. She will arrange a general time slot for you to speak. The EPA will make every effort to follow the schedule as closely as possible on the day of the hearings.

Oral testimony will be limited to five (5) minutes for each commenter to address the proposal. We will not be providing equipment for commenters to show overhead slides or make computerized slide presentations unless we receive special requests in advance. Commenters should notify Ms. Crabtree if they will need specific audiovisual (AV) equipment. Commenters should also notify Ms. Crabtree if they need specific translation services for non-English speaking commenters. The EPA encourages commenters to provide written versions of their oral testimonies either electronically on computer disk or CD ROM or in paper copy.

The hearing schedules, including lists of speakers, will be posted on EPA's Web site for the proposal at http://www.epa.gov/air/ozonepollution/actions.html prior to the hearings. Verbatim transcripts of the hearings and written statements will be included in the rulemaking dockets.

How Can I Get Copies of This Document and Other Related Information?

The EPA has established the official public docket for the “National Ambient Air Quality Standards for Ozone” under Docket Number EPA-HQ-OAR-2005-0172. The EPA has also developed a Web site for the proposal at the address given above. Please refer to the proposal, published elsewhere in this Federal Register, for detailed information on accessing information related to the proposal.

Dated: July 5, 2007.
Stephen D. Page,
Director, Office of Air Quality Planning and Standards.

[FR Doc. E7-13526 Filed 7-10-07; 11:37 am]

BILLING CODE 6560-50-P